DEPARTMENT OF COMMERCE

International Trade Administration

[A-201-842]

Large Residential Washers From Mexico: Final Results of the Expedited Second Sunset Review of the Antidumping Duty Order

AGENCY: Enforcement and Compliance, International Trade Administration, Department of Commerce.

SUMMARY: As a result of this expedited sunset review, the U.S. Department of Commerce (Commerce) finds that revocation of the antidumping duty (AD) order on large residential washers from Mexico would be likely to lead to continuation or recurrence of dumping at the levels indicated in the “Final Results of Expedited Sunset Review” section of this notice.

DATES: Applicable July 24, 2024.

FOR FURTHER INFORMATION CONTACT: Mira Warrier, AD/CVD Operations, Enforcement and Compliance, International Trade Administration, U.S. Department of Commerce, 1401 Constitution Avenue NW, Washington, DC 20230; telephone: (202) 482-8031.

SUPPLEMENTARY INFORMATION:

Background

On February 15, 2013, Commerce published in the Federal Register the AD order on large residential washers from Mexico.¹ On April 1, 2024, Commerce published the initiation of the second sunset review of the Order pursuant to section 751(c) of the Tariff Act of 1930, as amended (the Act).² In accordance with 19 CFR 351.218(d)(1)(i) and (ii), Commerce received a notice of intent to participate in this sunset review from Whirlpool Corporation, the domestic interested party, within 15 days after the date of publication of the Initiation Notice.³ The domestic interested party claimed interested party status under section 771(9)(C) of the Act as producers of a domestic like product in the United States.

¹ See Large Residential Washers from Mexico and the Republic of Korea: Antidumping Duty Orders, 78 FR 11148 (February 15, 2013) (Order).

² See Initiation of Five-Year (Sunset) Reviews, 89 FR 22373 (April 1, 2024) (Initiation Notice).

³ See Whirlpool's Letter, “Notice of Intent to Participate,” dated April 16, 2024.

Commerce received a timely, adequate substantive response to the Initiation Notice from the domestic interested party within the 30-day period specified in 19 CFR 351.218(d)(3)(i).⁴ Commerce did not receive substantive responses from any other interested parties, and no party requested a hearing.

⁴ See Whirlpool's Letter, “Substantive Response of Whirlpool Corporation to the Notice of Initiation,” dated April 29, 2024.

On April 22, 2024, Commerce notified the U.S. International Trade Commission that it did not receive an adequate substantive response from other interested parties.⁵ As a result, in accordance with section 751(c)(3)(B) of the Act and 19 CFR 351.218(e)(1)(ii)(C)(2), Commerce conducted an expedited, i.e., 120-day, sunset review of the Order.

⁵ See Commerce's Letter, “Sunset Reviews Initiated on April 22, 2024,” dated April 23, 2024.

Scope of the Order

The merchandise subject to the Order are large residential washers, all automatic clothes washing machines, regardless of the orientation of the rotational axis, except as noted below, with a cabinet width (measured from its widest point) of at least 24.5 inches (62.23 cm) and no more than 32.0 inches (81.28 cm). For a complete description of the scope of the Order, see the Issues and Decision Memorandum.⁶

⁶ See Memorandum, “Issues and Decision Memorandum for the Final Results of the Expedited Second Sunset Review of the Antidumping Duty Order on Large Residential Washers from Mexico,” dated concurrently with, and hereby adopted by, this notice (Issues and Decision Memorandum).

Analysis of Comments Received

All issues raised in this sunset review are addressed in the Issues and Decision Memorandum, including the likelihood of continuation or recurrence of dumping and the magnitude of the margins of dumping likely to prevail if the Order were revoked.⁷ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

⁷ Id.

Final Results of Expedited Sunset Review

Pursuant to sections 751(c)(1) and 752(c)(1) and (3) of the Act, Commerce determines that revocation of the Order would likely lead to the continuation or recurrence of dumping and that the magnitude of the dumping margin likely to prevail would be at a rate up to 72.41 percent.

Administrative Protective Order

This notice serves as the only reminder to interested parties subject to an administrative protective order (APO) of their responsibility concerning the return or destruction of proprietary information disclosed under APO in accordance with 19 CFR 351.305. Timely notification of the return or destruction of APO materials or conversion to judicial protective order is hereby requested. Failure to comply with the regulations and terms of an APO is a violation subject to sanction.

Notification to Interested Parties

We are issuing and publishing the results in accordance with sections 751(c), 752(c), and 771(i)(1) of the Act and 19 CFR 351.218.

Dated: July 17, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Expedited Sunset Review

VIII. Recommendation

[FR Doc. 2024-16183 Filed 7-23-24; 8:45 am]

BILLING CODE 3510-DS-P